DEPARTMENT OF THE TREASURY

Internal Revenue Service

26 CFR Part 1

[REG-100420-03]

RIN 1545-BB90

Safe Harbor for Valuation Under Section 475; Correction

AGENCY: Internal Revenue Service (IRS), Treasury.

ACTION: Correction to notice of proposed rulemaking and notice of public hearing.

SUMMARY: This document contains corrections to a notice of proposed rulemaking and notice of public hearing that was published in the Federal Register on Tuesday, May 24, 2005 (70 FR 29663). The proposed regulations provide guidance regarding elective safe harbor for dealers and traders in securities and commodities.

FOR FURTHER INFORMATION CONTACT: Marsha A. Sabin or John W. Rogers III (202) 622-3950 (not a toll-free number).

SUPPLEMENTARY INFORMATION:

Background

The notice of proposed rulemaking (REG-100420-03) that is the subject of these corrections is under section 475 of the Internal Revenue Code.

Need for Correction

The notice of proposed rulemaking (REG-100420-03) contains errors that may prove to be misleading and are in need of clarification.

Correction of Publication

Accordingly, the notice proposed rulemaking (REG-100420-03), that was the subject of FR Doc. 05-10167, is corrected as follows:

1. On page 29666, column 2, under paragraph heading Record Retention and Production; Use of Different Values, first paragraph, lines 15 through 18 from the bottom of the paragraph, the language “such as the Schedule M-1, “Net Income (Loss) Reconciliation for Corporations With Total Assets of $10 Million or More,” Schedule M-3, “Net” is corrected to read “such as the Schedule M-1, “Reconciliation of Income (Loss) per Books with Income per Return”, Schedule M-3, “Net”.

§ 1.475(a)-4 [Corrected]

2. On page 29670, column 3, § 1.475(a)-4 (k)(2)(i)(A), lines 11 through 13 from the top of the column, the language, “Schedule M-1, “Net Income (Loss) Reconciliation for Corporations With Total Assets of $10 Million or More” is corrected to read “Schedule M-1, “Reconciliation of Income (Loss) per Books with Income per Return”.

Cynthia E. Grigsby,
Acting Chief, Publications and Regulations Branch, Legal Processing Division, Associate Chief Counsel, (Procedure and Administration).

[FR Doc. 05-13382 Filed 7-8-05; 8:45 am]

BILLING CODE 4830-01-P